DEPARTMENT OF TRANSPORTATION

Federal Aviation Administration

14 CFR Part 39

[Docket No. 2001-NM-120-AD]

RIN 2120-AA64

Airworthiness Directives; Airbus Model A319, A320, and A321 Series Airplanes

AGENCY: Federal Aviation Administration, DOT.

ACTION: Notice of proposed rulemaking (NPRM).

SUMMARY: This document proposes the supersedure of an existing airworthiness directive (AD), applicable to certain Airbus Model A320 series airplanes, that currently requires an inspection to detect moisture and migrated bushings of the guide fittings of the safety locking pins of the passenger doors, removal of any moisture, application of grease, and reinstallation of any migrated bushing. That AD also requires installation of a greasing nipple on the guide fitting of the locking pin and on three telescopic rods on the passenger doors. This action would add a requirement for modification of the upper guide fitting of the locking pin, and would expand the applicability in the existing AD. The actions specified by the proposed AD are intended to prevent jamming of the locking pin of the passenger door, which could result in inability to open the passenger door and delay of evacuation in an emergency, resulting in possible injury to passengers or crew. This action is intended to address the identified unsafe condition.

DATES: Comments must be received by December 4, 2003.

ADDRESSES: Submit comments in triplicate to the Federal Aviation Administration (FAA), Transport Airplane Directorate, ANM-114, Attention: Rules Docket No. 2001-NM-120-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-120-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-120-AD.” The postcard will be date stamped and returned to the commenter.

Availability of NPRMs

Any person may obtain a copy of this NPRM by submitting a request to the FAA, Transport Airplane Directorate, ANM-114, Attention: Rules Docket No. 2001-NM-120-AD, 1601 Lind Avenue, SW., Renton, Washington 98055-4056.

Discussion

On December 30, 1997, the FAA issued AD 98-01-12, amendment 39-10275 (63 FR 1905, January 13, 1998), applicable to certain Airbus Model A320 series airplanes, to require an inspection to detect moisture and migrated bushings of the guide fittings of the safety locking pins of the passenger doors, removal of any moisture, application of grease, and reinstallation of any migrated bushing. That AD also requires installation of a greasing nipple on the guide fitting of the locking pin and on three telescopic rods on the passenger doors. That action was prompted by reports of difficulty opening the passenger doors due to jamming of the locking pin. The requirements of that AD are intended to prevent such jamming of the locking pin, which could result in inability to open the passenger door.

Actions Since Issuance of Previous Rule

Since the issuance of AD 98-01-12, the Direction Générale de l'Aviation Civile (DGAC), which is the airworthiness authority for France, has informed us of additional incidents involving jamming of the forward right door in the up position on certain Model A319, A320, and A321 series airplanes. Investigation revealed migration of the bushings in the upper safety guide fitting which were installed per the requirements of that AD. Jamming of the locking pin of the passenger door could result in inability to open the passenger door and delay of evacuation in an emergency, resulting in possible injury to passengers or crew.

Modification of the upper guide fitting of the locking pin will prevent any possibility of migration of the bushings, and will allow the grease to escape during servicing of the airplane.

Explanation of Relevant Service Information

Airbus has issued Service Bulletin A320-52-1105, Revision 02, dated May 21, 2002, which describes procedures for modification of the upper guide fitting of the locking pin of the forward and aft passenger/crew doors. The modification involves installing a new single recessed guide bushing with a threaded lubrication fitting. The service bulletin also specifies accomplishment of functional and operational tests after doing the modification. The DGAC classified this service bulletin as mandatory and issued French airworthiness directive 2001-100(B), dated March 21, 2001, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed AD

Since an unsafe condition has been identified that is likely to exist or develop on other airplanes of the same type design registered in the United States, the proposed AD would supersede AD 98-01-12 to continue to require an inspection to detect moisture and migrated bushings of the guide fittings of the safety locking pins of the passenger doors, removal of any moisture, application of grease, and reinstallation of any migrated bushing. The proposed AD also would continue to require installation of a greasing nipple on the guide fitting of the locking pin and on three telescopic rods on the passenger doors. This action would add a requirement for modification of the upper guide fitting of the locking pin, and would expand the applicability in the existing AD. The actions would be required to be accomplished in accordance with the service bulletin described previously, except as discussed below.

Differences Between the French Airworthiness Directive, Service Bulletin and This Proposed AD

The service bulletin and French airworthiness directive recommend doing the modification within 3 years after issuance of the service bulletin and French airworthiness directive, for Model A320 and A321 series airplanes on which Airbus Service Bulletin A320-52-1057 has been incorporated in service; and within 5 years after issuance of the service bulletin and French airworthiness directive, for Model A319, A320, and A321 series airplanes on which Airbus Modification 24389 was done in production. This proposed AD would require that the modification for those airplanes be done within 1 year and 3 years, respectively, after the effective date of the AD. In developing an appropriate compliance time for this proposed AD, we have considered the degree of urgency associated with the subject unsafe condition, in addition to the fact that maintenance schedules vary among operators, depending on the average utilization of the affected fleet and the time necessary to perform the actions. In light of these factors, we find that this compliance time represents an appropriate interval of time for affected airplanes to continue to operate without compromising safety.

Cost Impact

There are approximately 168 airplanes of U.S. registry that would be affected by this proposed AD.

The actions that are currently required by AD 98-01-12 take about 4 work hours per airplane (1 work hour per door) to accomplish, at an average labor rate of $65 per work hour. Based on these figures, the cost impact of the currently required actions is estimated to be $260 per airplane.

The new modification that is proposed in this AD action would take about 8 work hours per airplane (2 work hours per door) to accomplish, at an average labor rate of $65 per work hour. Required parts costs would be minimal. Based on these figures, the cost impact of the proposed requirements of this AD on U.S. operators is estimated to be $87,360, or $520 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10275 (63 FR 1905, January 13, 1998), and by adding a new airworthiness directive (AD), to read as follows:

Airbus: Docket 2001-NM-120-AD. Supersedes AD 98-01-12, Amendment 39-10275.

Applicability: Model A319, A320, and A321 series airplanes; certificated in any category; except those on which Airbus Modification 27142 has been incorporated during production.

Compliance: Required as indicated, unless accomplished previously.

To prevent jamming of the locking pin of the passenger door, which could result in inability to open the passenger door and delay of evacuation in an emergency, resulting in possible injury to passengers or crew, accomplish the following:

Restatement of Requirements of AD 98-01-12

Inspection/Corrective Action

(a) Prior to the accumulation of 450 hours, time-in-service after one year from the delivery date of the airplane, or within 450 hours, time-in-service after February 17, 1998 (the effective date of AD 98-01-12, amendment 39-10275), whichever occurs later; perform an inspection to detect moisture or migrated bushings of the guide fittings of the upper safety locking pins on each passenger door, in accordance with Airbus Industrie All Operators Telex (AOT) 52-06, dated February 4, 1994.

(1) If any moisture is found in the guide fitting, prior to further flight, remove the moisture, dry the guide fitting, fill it with low temperature grease, and reinstall the guide fitting with bolts, washers, and nuts in accordance with the AOT.

(2) If any migrated bushing is found, prior to further flight, reinstall the bushing using Loctite 672 in accordance with the AOT. If the bushing cannot be reinstalled prior to further flight, the airplane may be operated without the upper locking pin for an additional 50 hours time-in-service or three days after accomplishing the inspection, whichever occurs first, provided that the requirements specified in paragraphs (a)(2)(i), (a)(2)(ii), and (a)(2)(iii) of this AD are accomplished. This compliance time applies to each passenger door.

(i) The connecting rod to the locking shaft shall be removed.

(ii) The guide fitting shall remain installed.

(iii) The cavity in the guide fitting (which results from the removal of the upper locking pin) shall be covered with high speed tape to prevent moisture ingress.

Installation of Greasing Nipple

(b) Within 15 months after February 17, 1998, install a greasing nipple on the guide fitting of the locking pin and on three telescopic rods on the passenger doors in accordance with Airbus Industrie Service Bulletin No. A320-52-1057, dated July 26, 1994.

New Requirements of This AD

Modification

(c) Modify the upper guide fitting of the locking pin in accordance with paragraphs 3.A. through 3.D. of the Accomplishment Instructions of Airbus Service Bulletin A320-52-1105, Revision 02, dated May 21, 2002; at the time specified in paragraph (c)(1) or (c)(2) of this AD, as applicable. Accomplishment of the modification before the effective date of this AD in accordance with Airbus Service Bulletin A320-52-1105, dated September 29, 2000; or Revision 01, dated August 7, 2001; is considered acceptable for compliance with the corresponding action in this paragraph.

(1) For Model A320 and A321 series airplanes on which Airbus Service Bulletin A320-52-1057 has been incorporated in service: Within 1 year after the effective date of this AD.

(2) For Model A319, A320, and A321 series airplanes on which Airbus Modification 24389 was done in production: Within 3 years after the effective date of this AD.

Alternative Methods of Compliance

(d)(1) In accordance with 14 CFR 39.19, the Manager, International Branch, ANM-116, FAA, Transport Airplane Directorate, is authorized to approve alternative methods of compliance for this AD.

(2) Alternative methods of compliance, approved previously per AD 98-01-12, amendment 39-10275, are approved as alternative methods of compliance with paragraphs (a) and (b) of this AD, as applicable.

Note 1: The subject of this AD is addressed in French airworthiness directive 2001-100(B), dated March 21, 2001.

Issued in Renton, Washington, on October 29, 2003.
Ali Bahrami,
Acting Manager, Transport Airplane Directorate, Aircraft Certification Service.

[FR Doc. 03-27670 Filed 11-3-03; 8:45 am]

BILLING CODE 4910-13-P